DEPARTMENT OF HOMELAND SECURITY

Coast Guard

46 CFR Part 15

[Docket No. USCG-2015-0758]

RIN 1625-AC25

Offshore Supply Vessels, Towing Vessel, and Barge Engine Rating Watches

AGENCY: Coast Guard, DHS.

ACTION: Direct final rule; confirmation of effective date.

SUMMARY: On October 26, 2015, the Coast Guard published a direct final rule, which notified the public of our intent to amend merchant mariner manning regulations to align them with statutory changes made by the Howard Coble Coast Guard and Maritime Transportation Act of 2014. The Act allows oilers serving on certain offshore support vessels, towing vessels, and barges to be divided into at least two watches. The change would increase the sea service credit affected mariners are permitted to earn for each 12-hour period of work from one day to one and a half days. The rule will go into effect as scheduled.

DATES: The effective date of the direct final rule published at 80 FR 65165 on October 26, 2015 is confirmed as January 25, 2016.

FOR FURTHER INFORMATION CONTACT: Mr. Davis Breyer, Marine Personnel Qualifications Division (CG-OES-1), Coast Guard; email Davis.J.Breyer@uscg.mil, telephone (202) 372-1445.

SUPPLEMENTARY INFORMATION: We received two comments in response to the direct final rule (DFR). The two comments we received were either not adverse or separable from and not within the scope of the rulemaking.

One commenter supported the rule and thanked the Coast Guard for its prompt action. Another commenter titled its comment as “adverse” and requested that the Coast Guard withdraw the DFR. The commenter agreed that “the Coast Guard is obliged to align Coast Guard regulations with the statutes” and did not oppose the changes to the regulation. The commenter argued, rather, that the Coast Guard should delay the rulemaking indefinitely and seek new legislation from Congress that limits every merchant mariner to serving a uniform maximum of 12 hours in a 24 hour period, except in an emergency.

The DFR conforms Coast Guard regulations to existing law, under which affected mariners may earn one and a half days sea service credit for each 12-hour period of work. The commenter did not oppose granting such mariners such credit for time worked. Instead, the commenter took issue with the absence of statutory restrictions on the length of time certain mariners may be required to work. The commenter advocated that the Coast Guard delay updating the regulations and request that Congress amend the statute further.

The DFR stated that “we may adopt, as final, those parts of this rule on which no adverse comment was received.” 80 FR 65166. The commenter's requests are separable from the rule and raises issues well outside the scope of the rule. The rule will therefore go into effect as scheduled.

Dated: January 14, 2016.
J.G. Lantz,
Director, Commercial Regulations and Standards, U.S. Coast Guard.

[FR Doc. 2016-01101 Filed 1-20-16; 8:45 am]

BILLING CODE P